DEPARTMENT OF LABOR

Employee Benefits Security Administration

Proposed Extension of Information Collection Request Submitted for Public Comment and Recommendations; Notice of Pre-Existing Condition Exclusion

ACTION: Notice.

SUMMARY: The Department of Labor, as part of its continuing effort to reduce paperwork and respondent burden, provides the general public and Federal agencies with an opportunity to comment on proposed and/or continuing collections of information in accordance with the Paperwork Reduction Act of 1995 (PRA 95) (44 U.S.C. 3506(c)(2)(A)). This program helps to ensure that requested data can be provided in the desired format, reporting burden (time and financial resources) is minimized, collection instruments are clearly understood, and the impact of collection requirements on respondents can be properly assessed. Currently, the Employee Benefits Security Administration is soliciting comments concerning the proposed extension of a currently approved collection of information: Notice of Pre-Existing Condition Exclusion. A copy of the information collection request (ICR) can be obtained by contacting the office shown in the addresses section below.

DATES: Written comments must be submitted on or before May 12, 2003.

ADDRESSES: Joseph S. Piacentini, Department of Labor, Employee Benefits Security Administration, 200 Constitution Avenue, NW., Washington, DC 20210, (202) 693-8410, Fax (202) 219-5333 (these are not toll-free numbers).

SUPPLEMENTARY INFORMATION:

I. Background

Section 734 of ERISA, added by the Health Care Portability and Accountability Act of 1996 (HIPAA) authorized the Secretary of Labor, in coordination with the Secretary of Health and Human Services (HHS) and the Secretary of the Treasury, to promulgate such regulations as may be necessary or appropriate to carry out the provisions of the statute. Accordingly, Interim Rules implementing the Portability Requirement for Group Health Plans were published on April 8, 1997, (62 FR 16920) (April 8 Interim Rules).

Specific disclosure requirements relating to pre-existing exclusions constitute the ICR. Under the April 8 Interim Rules, a group health plan or health insurance issuer may not impose any pre-existing conditions exclusion on a participant unless that participant has been notified in writing that the plan includes pre-existing condition exclusion provisions, that a participant has a right to demonstrate any periods of prior creditable coverage, and that the plan or issuer will assist the participant in obtaining a certificate of prior coverage from any prior plan or issuer, if necessary. Plans that use the alternative method of crediting coverage must disclose their method at the time of enrollment in the plan.

In addition, the April 8 Interim Rules require that before a plan or issuer imposes a pre-existing condition exclusion on a particular participant, it must first disclose that determination in writing, including the basis of the decision, and an explanation of any appeal procedure established by the plan or issuer.

II. Desired Focus of Comments

The Department of Labor (Department) is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Department has not modified the ICR incorporated in the April 8 Interim Rules, but intends to submit the ICR to OMB for continued clearance. Comments received in response to this notice will be incorporated in the submission to OMB.

Agency: Department of Labor, Employee Benefits Security Administration.

Title: Notice of Pre-Existing Condition Exclusion.

Type of Review: Extension of a currently approved collection.

OMB Number: 1210-0102.

Affected Public: Business or other for-profit, Not-for-profit institutions, Individuals or households.

Frequency of Response: On occasion.

Respondents: 1,300,000.

Responses: 8,570,000.

Total Estimated Burden Hours: 9,004.

Total Burden Cost (Operating and Maintenance): $1,008,000.

Comments submitted in response to this notice will be summarized and/or included in the request for Office of Management and Budget approval of the information collection request; they will also become a matter of public record.

Dated: March 5, 2003.
Joseph S. Piacentini,
Deputy Director, Office of Policy and Research, Employee Benefits Security Administration.

[FR Doc. 03-5728 Filed 3-10-03; 8:45 am]

BILLING CODE 4510-29-P